NUCLEAR REGULATORY COMMISSION

[Docket No. 03004532]

Notice of Availability of Environmental Assessment and Finding of No Significant Impact for License Amendment for U.S. Department of the Army's Facility in Fort Detrick, Frederick County, MD

AGENCY: Nuclear Regulatory Commission.

ACTION: Notice of Availability of Environmental Assessment and Finding of No Significant Impact.

FOR FURTHER INFORMATION CONTACT: John D. Kinneman, Nuclear Materials Safety Branch 2, Division of Nuclear Materials Safety, Region I, 475 Allendale Road, King of Prussia, Pennsylvania 19406, telephone (610) 337-5252, fax (610) 337-5269; or by e-mail: jdk@nrc.gov.

SUPPLEMENTARY INFORMATION:

I. Introduction

The Nuclear Regulatory Commission (NRC) is considering issuing a license amendment to the U.S. Department of the Army (Army) for Materials License No. 19-01151-02, to terminate the license and authorize release of its facilities at the U.S. Army Garrison in Fort Detrick, Frederick County, Maryland for unrestricted use. NRC has prepared an Environmental Assessment (EA) in support of this action in accordance with the requirements of 10 CFR part 51. Based on the EA, the NRC has concluded that a Finding of No Significant Impact (FONSI) is appropriate. The Army's request for the proposed action was previously noticed in the Federal Register on April 30, 2003 (68 FR 23163), along with a notice of an opportunity to request a hearing. The amendment will be issued following the publication of this notice.

II. EA Summary

The purpose of the proposed action is to terminate Byproduct Materials License No. 19-01151-02 and release the licensee's Fort Detrick facility for unrestricted use. The Army was authorized by NRC since 1954 to use radioactive materials for research and development purposes and for collection, storage, and disposal of radioactive wastes from tenant facilities at the site. On March 26, 2004, the Army provided the results of the final task in the decommissioning of the facility and requested that NRC release the Fort Detrick facility for unrestricted use. The Army has conducted surveys of the Fort Detrick facility and determined that the facility meets the license termination criteria in subpart E of 10 CFR part 20. The NRC staff has prepared an EA in support of the proposed license amendment.

III. Finding of No Significant Impact

The staff has prepared the EA (summarized above) in support of the proposed license amendment to terminate the license and release the facility for unrestricted use. The NRC staff has evaluated the Army's request and the results of the surveys and has concluded that the completed action complies with the criteria in subpart E of 10 CFR part 20. The staff has found that the environmental impacts from the proposed action are bounded by the impacts evaluated by the “Generic Environmental Impact Statement in Support of Rulemaking on Radiological Criteria for License Termination of NRC-Licensed Facilities” (NUREG-1496). The staff has also found that the non-radiological impacts are not significant. On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML023380577, ML023500461, ML030840097, ML030900332, ML041630081, ML031350586, ML032260400, ML032660361, ML041630070, ML032830344, ML041030414 and ML041880474. The PDR reproduction contractor will copy documents for a fee. These documents are also available for inspection and copying for a fee at the Region I Office, 475 Allendale Road, King of Prussia, Pennsylvania 19406. Persons who do not have access to ADAMS, should contact the NRC PDR Reference staff by telephone at 1-800-397-4209 or (301) 415-4737, of by e-mail to pdr@nrc.gov.

Dated in King of Prussia, Pennsylvania this 7th day of June 2004.
For the Nuclear Regulatory Commission.
John D. Kinneman,
Chief, Nuclear Materials Safety Branch 2, Division of Nuclear Materials Safety, Region I.

[FR Doc. 04-15918 Filed 7-13-04; 8:45 am]

BILLING CODE 7590-01-P